DEPARTMENT OF COMMERCE

National Telecommunications and Information Administration

Proposed Information Collection; Comment Request; State and Local Implementation Grant Program Closeout Documentation

AGENCY: National Telecommunications and Information Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 18, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instruments and instructions should be sent to Michael Dame, Telecommunications Policy Specialist, Office of Public Safety Communications, National Telecommunications and Information Administration, U.S. Department of Commerce, 1401 Constitution Avenue NW., Room 4078, Washington, DC 20230 (or via email at mdame@ntia.doc.gov).

SUPPLEMENTARY INFORMATION:

I. Abstract

The Middle Class Tax Relief and Job Creation Act of 2012 (Act, Pub. L. 112-96, 126 Stat. 156 (2012)) was signed by the President on February 22, 2012. The Act meets a long-standing priority of the Administration, as well as a critical national infrastructure need, to create a single, interoperable, nationwide public safety broadband network (NPSBN) that will, for the first time, allow police officers, fire fighters, emergency medical service professionals, and other public safety officials to effectively communicate with each other across agencies and jurisdictions. Public safety workers have long been hindered in their ability to respond in a crisis situation because of incompatible communications networks and often outdated communications equipment. The Act establishes the First Responder Network Authority (FirstNet) as an independent authority within NTIA and authorizes it to take all actions necessary to ensure the design, construction, and operation of the NPSBN, based on a single, national network architecture.

FirstNet is responsible for, at a minimum, ensuring nationwide standards for the use of and access to the network; issuing open, transparent, and competitive requests for proposals (RFPs) to build, operate, and maintain the network; encouraging these RFPs to leverage, to the maximum extent economically desirable, existing commercial wireless infrastructure to speed deployment of the network; and overseeing contracts with non-federal entities to build, operate, and maintain the network.

The Act also charges NTIA with establishing the State and Local Implementation Grant Program (SLIGP) to assist state, regional, tribal, and local jurisdictions with identifying, planning, and implementing the most efficient and effective means to use and integrate the infrastructure, equipment, and other architecture associated with the NPSBN to satisfy the wireless broadband and data services needs of their jurisdictions. The SLIGP program office awarded $116.5 million in grant funds to 54 active state and territorial recipients between July 2013 and June 2014.

Moreover, the Act's framework contemplates that FirstNet will coordinate its activities with state, regional, tribal, and local governments and imposes a statutory requirement that FirstNet consult with these entities as it takes all actions necessary to build, deploy, and operate the NPSBN. Specifically, the Act requires FirstNet to consult with state, regional, tribal, and local governments about the distribution and expenditure of any amounts required to carry out its responsibilities, including (i) The construction of a core network and any radio access network build-out; (ii) placement of towers; (iii) coverage areas of the network; (iv) adequacy of hardware, security, reliability, and resiliency requirements; (v) assignment of priority to local users and selection of entities seeking network access; and (vi) training needs of local users.

Additionally, the Act specifies that these required consultations are to occur between FirstNet and the single point of contact that the state was required to designate in its application for grant funds under SLIGP or that the governor has since designated. Thus, progress in meeting FirstNet's responsibilities under the Act, including its required consultations, is inextricably linked to SLIGP. FirstNet must rely on NTIA to utilize SLIGP as the principal means to facilitate its required consultations. At the same time, without funding assistance from SLIGP, the states would lack the resources to consult effectively with FirstNet and provide it with information needed for it to proceed with the design and construction of a NPSBN in an effective and timely manner, as required by the Act.

SLIGP recipients' periods of performance will end either on December 31, 2017, January 31, 2018, or February 28, 2018, depending on when the award was made. Following the award end date, grantees will be required to complete grant closeout activities within 90 days. The purpose of closeout is to capture a final account of grantee activities and how these activities contributed to overall program goals. To ensure effective grant oversight and management, SLIGP developed a closeout report form for recipients to complete as part of post-award monitoring and closeout activities at the end of the period of performance. The closeout form serves as a summary of grant-funded recipient activities over the entire award period and ensures that recipients comply with all necessary closeout procedures. The closeout form will ask recipients to aggregate their cumulative progress toward program priority areas identified in their quarterly performance progress reports (PPRs), namely stakeholders engaged, broadband conferences attended, staff hired, contracts executed, governance meetings held, outreach materials disseminated, and overall progress toward FirstNet-determined data collection activities. Recipients will also be asked to report on their cumulative expenditures throughout the period of performance in each object class category, including personnel, fringe, travel, equipment, materials/supplies, contractual, construction, other, and indirect costs.

NTIA will use the collection of information to ensure that SLIGP grant recipients are effectively monitored and evaluated against the core purposes of the program established by the Act. The publication of this notice allows NTIA to begin the process to obtain the approval for the standard three years.

II. Method of Collection

Paper format.

III. Data

OMB Control Number: None.

Form Number(s): None.

Type of Review: Regular submission; new collection.

Affected Public: State, regional, local, and tribal government organizations.

Frequency: Once (at the end of the period of performance).

Number of Respondents: 54.

Average Time per Response: Final closeout report, 25 hours.

Estimated Total Annual Burden Hours: 1,350 hours.

Estimated Total Annual Cost to Public: $52,623.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Sheleen Dumas,
Departmental PRA Lead, Office of the Chief Information Officer.

[FR Doc. 2016-03139 Filed 2-16-16; 8:45 am]

BILLING CODE 3510-06-P